DEPARTMENT OF ENERGY

Federal Energy Regulatory Commission

Combined Notice of Filings #1

Take notice that the Commission received the following electric rate filings:

Docket Numbers: ER10-2179-028; ER10-2181-028; ER10-2182-028.

Applicants: Calvert Cliffs Nuclear Power Plant, LLC, Nine Mile Point Nuclear Station, LLC, R.E. Ginna Nuclear Power Plant, LLC.

Description: Notice of Non-material Change in Status of the CENG Nuclear Entities under ER10-2179, et al.

Filed Date: 5/28/15.

Accession Number: 20150528-5327.

Comments Due: 5 p.m. ET 6/18/15.

Docket Numbers: ER10-2794-017; ER10-2849-016; ER11-2028-017; ER12-1825-015; ER13-1680-003; ER14-2672-002; ER11-3642-015.

Applicants: EDF Trading North America, LLC, EDF Industrial Power Services (NY), LLC, EDF Industrial Power Services (IL), LLC, EDF Industrial Power Services (CA), LLC, EDF Industrial Power Services (OH), LLC, EDF Energy Services, LLC, Tanner Street Generation, LLC.

Description: Notice of Non-Material Change in Status of EDF Trading North America, LLC, et al.

Filed Date: 5/28/15.

Accession Number: 20150528-5335.

Comments Due: 5 p.m. ET 6/18/15.

Docket Numbers: ER10-2985-016; ER10-3049-017; ER10-3051-017.

Applicants: Champion Energy Services, LLC, Champion Energy, LLC, Champion Energy Marketing LLC.

Description: Notice of Change in Status of the Champion Utilities.

Filed Date: 5/28/15.

Accession Number: 20150528-5332.

Comments Due: 5 p.m. ET 6/18/15.

Docket Numbers: ER11-4380-004; ER13-1562-003; ER13-1641-001; ER10-2434-005; ER10-2467-005; ER10-2488-011; ER12-1931-005; ER10-2504-006; ER12-610-006; ER13-338-005; ER12-2037-005; ER12-2314-004; ER10-2436-005; ER11-4381-004.

Applicants: Bellevue Solar, LLC, Catalina Solar Lessee, LLC, Chestnut Flats Lessee, LLC, Fenton Power Partners I, LLC, Hoosier Wind Project, LLC, Oasis Power Partners, LLC, Pacific Wind Lessee, LLC, Shiloh Wind Project 2, LLC, Shiloh III Lessee, LLC, Shiloh IV Lessee, LLC, Spearville 3, LLC, Spinning Spur Wind LLC, Wapsipinicon Wind Project, LLC, Yamhill Solar, LLC.

Description: Notice of Change in Status of the EDF-RE MBR Companies under ER11-4380, et al.

Filed Date: 5/28/15.

Accession Number: 20150528-5329.

Comments Due: 5 p.m. ET 6/18/15.

Docket Numbers: ER13-415-002.

Applicants: Anahau Energy, LLC.

Description: Notification of Change in Status of Anahua Energy, LLC.

Filed Date: 5/28/15.

Accession Number: 20150528-5336.

Comments Due: 5 p.m. ET 6/18/15.

Docket Numbers: ER14-2245-001.

Applicants: TriEagle Energy, LP.

Description: Supplement to April 29, 2015 Notice of Non-Material Change in Status of TriEagle Energy, LP.

Filed Date: 5/28/15.

Accession Number: 20150528-5330.

Comments Due: 5 p.m. ET 6/18/15.

Docket Numbers: ER14-2708-004; ER14-2709-003; ER15-30-001; ER14-2710-003; ER15-58-001.

Applicants: Seiling Wind, LLC, Seiling Wind II, LLC, Seiling Wind Interconnection Services, LLC, Palo Duro Wind Energy, LLC., Palo Duro Wind Interconnection Services, LLC.

Description: Supplement to January 13, 2015 Notice of Non-Material Change in Status of Seiling Wind, LLC, et al. under ER14-2708, et al.

Filed Date: 5/29/15.

Accession Number: 20150529-5189.

Comments Due: 5 p.m. ET 6/19/15.

Docket Numbers: ER15-1800-000.

Applicants: Duke Energy Progress, Inc.

Description: Section 205(d) rate filing per 35.13(a)(2)(iii): DEP-DOM IA RS No. 196 Concurrence Filing to be effective 5/4/2015.

Filed Date: 5/28/15.

Accession Number: 20150528-5240.

Comments Due: 5 p.m. ET 6/18/15.

Docket Numbers: ER15-1801-000.

Applicants: Harborside Energy of Massachusetts, LLC.

Description: Initial rate filing per 35.12 Market Based Rate Tariff to be effective 6/27/2015.

Filed Date: 5/28/15.

Accession Number: 20150528-5241.

Comments Due: 5 p.m. ET 6/18/15.

Docket Numbers: ER15-1802-000.

Applicants: California Independent System Operator Corporation.

Description: Section 205(d) rate filing per 35.13(a)(2)(iii): 2015-05-28_APS_EIMIA to be effective 8/1/2015.

Filed Date: 5/28/15.

Accession Number: 20150528-5267.

Comments Due: 5 p.m. ET 6/18/15.

Docket Numbers: ER15-1803-000.

Applicants: Ingenco Wholesale Power, L.L.C.

Description: Section 205(d) rate filing per 35.13(a)(2)(iii): Change in Category Status to be effective 5/27/2015.

Filed Date: 5/28/15.

Accession Number: 20150528-5275.

Comments Due: 5 p.m. ET 6/18/15.

Docket Numbers: ER15-1804-000.

Applicants: Collegiate Clean Energy, LLC.

Description: Section 205(d) rate filing per 35.13(a)(2)(iii): Change in Category Status to be effective 5/27/2015.

Filed Date: 5/28/15.

Accession Number: 20150528-5276.

Comments Due: 5 p.m. ET 6/18/15.

Docket Numbers: ER15-1805-000.

Applicants: California Independent System Operator Corporation.

Description: Section 205(d) rate filing per 35.13(a)(2)(iii): 2015-05-28_CDWR_PLA_Am1 to be effective 7/1/2015.

Filed Date: 5/28/15.

Accession Number: 20150528-5279.

Comments Due: 5 p.m. ET 6/18/15.

Docket Numbers: ER15-1806-000.

Applicants: CED Corcoran Solar, LLC.

Description: Initial rate filing per 35.12 Filing of Co-Tenancy and Common Facilities Agreement to be effective 5/29/2015.

Filed Date: 5/28/15.

Accession Number: 20150528-5307.

Comments Due: 5 p.m. ET 6/18/15.

Docket Numbers: ER15-1807-000.

Applicants: New England Power Pool Participants Committee.

Description: Section 205(d) rate filing per 35.13(a)(2)(iii): June 2015 Membership Filing to be effective 5/1/2015.

Filed Date: 5/29/15.

Accession Number: 20150529-5072.

Comments Due: 5 p.m. ET 6/19/15.

Docket Numbers: ER15-1808-000.

Applicants: The United Illuminating Company, ISO New England Inc.

Description: Section 205(d) rate filing per 35.13(a)(2)(iii): The United Illuminating Company—Revisions to Schedule 21—UI to be effective 6/1/2015.

Filed Date: 5/29/15.

Accession Number: 20150529-5086.

Comments Due: 5 p.m. ET 6/19/15.

Docket Numbers: ER15-1809-000.

Applicants: ATX Southwest, LLC.

Description: Request for Transmission Rate Incentives and Transmission Formula Rate Filing of ATX Southwest, LLC.

Filed Date: 5/28/15.

Accession Number: 20150528-5334.

Comments Due: 5 p.m. ET 6/18/15.

Docket Numbers: ER15-1810-000.

Applicants: Dillon Power, LLC.

Description: Initial rate filing per 35.12 Application for Market-Based Rate Authority to be effective 7/1/2015.

Filed Date: 5/29/15.

Accession Number: 20150529-5136.

Comments Due: 5 p.m. ET 6/19/15.

Docket Numbers: ER15-1811-000.

Applicants: CED Corcoran Solar 2, LLC.

Description: Initial rate filing per 35.12 Filing of Certificate of Concurrence to be effective 5/29/2015.

Filed Date: 5/29/15.

Accession Number: 20150529-5183.

Comments Due: 5 p.m. ET 6/19/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 29, 2015.
Nathaniel J. Davis, Sr.,
Deputy Secretary.

[FR Doc. 2015-13726 Filed 6-4-15; 8:45 am]

BILLING CODE 6717-01-P